DEPARTMENT OF JUSTICE

Notice of Lodging of Consent Decree Under the Comprehensive Environmental Response, Compensation and Liability Act

In accordance with 28 U.S.C. § 50.7 and section 122 of the Comprehensive Environmental Response, Compensation and Liability Act (“CERCLA”), 42 U.S.C. 9622, notice is hereby given that on July 25, 2003, a proposed Consent Decree in United States v. American Premier Underwriters; Consolidated Rail Corporation; The City of New Bedford, Massachusetts; and Housing 70 Corporation, Civil Action No. 03-CV-11403-NG, was lodged with the United States District Court for the District of Massachusetts.

In this action the United States, on behalf of the United States Environmental Protection Agency (“EPA”), sought reimbursement of response costs incurred with respect to the Railroad Depot Superfund Site (the “Site”) in New Bedford, Bristol County, Massachusetts. The Complaint alleges that the defendants are liable under section 107(a), 42 U.S.C. 9607(a), of CERCLA. Pursuant to the consent decree, defendants will pay $800,000 plus interest to reimburse the United States for costs incurred by EPA at the Site.

The Department of Justice will receive for a period of thirty (30) days from the date of this publication comments relating to the Consent Decree. Comments should be addressed to the Assistant Attorney General, Environment and Natural Resources Division, P.O. Box 7611, U.S. Department of Justice, Washington, DC 20044-7611, and should refer to United States v. American Premier Underwriters; Consolidated Rail Corporation; The City of New Bedford, Massachusetts; and Housing 70 Corporation, D.J. Ref. 90-11-3-06760.

The Consent Decree may be examined at the Office of the United States Attorney, United States Courthouse, 1 Courthouse Way, Boston, Massachusetts 02210, and at U.S. EPA Region I, One Congress Street, Suite 1100, Boston, Massachusetts 02203. During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.75 (25 cents per page reproduction cost) payable to the U.S. Treasury.

Ronald Gluck,
Assistant Section Chief, Environmental Enforcement Section, Environment and Natural Resources Division.

[FR Doc. 03-20070 Filed 8-6-03; 8:45 am]

BILLING CODE 4410-15-M